POSTAL SERVICE

39 CFR Part 230

Office of Inspector General; Technical Amendments

AGENCY: Postal Service.

ACTION: Final rule.

SUMMARY: This rule makes editorial corrections to the Office of Inspector General regulations pertaining to subpoenas served on employees of the Office of Inspector General.

DATES: Effective Date: March 6, 2006.

FOR FURTHER INFORMATION CONTACT: Gladis Griffith, Deputy General Counsel, Office of Inspector General, (703) 248-4683.

SUPPLEMENTARY INFORMATION: The Postal Service has previously published rules, at 68 FR 57372, that govern compliance with subpoenas, summonses, and court orders served on Office of Inspector General employees. This notice corrects a faulty cross-reference in the earlier published text.

List of Subjects in 39 CFR Part 230

Administrative practice and procedure.

For the reasons stated, the Postal Service amends 39 CFR as follows:

PART 230—OFFICE OF INSPECTOR GENERAL

1. The authority citation for part 230 continues to read as follows:

Authority: 5 U.S.C. App. 3; 39 U.S.C. 401(2) and 1001.

2. Section 230.24 is amended by revising paragraph (a) to read as follows:

§ 230.24 How is a demand for employee documents or testimony made to the Office of Inspector General.

(a) All demands for the production of nonpublic documents or testimony of Office of Inspector General employees concerning matters relating to their official duties and subject to the conditions set forth in § 230.10(b) shall be made in writing and conform to the requirements outlined in paragraph (b) of this section.

* * * * *

Stanley F. Mires,
Chief Counsel, Legislative.

[FR Doc. 06-2030 Filed 3-3-06; 8:45 am]

BILLING CODE 7710-12-P